DEPARTMENT OF DEFENSE

Office of Secretary

[DOD-2007-OS-0069]

Privacy Act of 1974; Systems of Records

AGENCY: Defense Threat Reduction Agency, DOD.

ACTION: Notice to add a system of records.

SUMMARY: The Defense Threat Reduction Agency is proposing to add a system of records to its inventory of record systems subject to the Privacy Act of 1974 (5 U.S.C. 552a), as amended.

DATES: This action will be effective without further notice on August 8, 2007 unless comments are received that would result in a contrary determination.

ADDRESSES: Send comments to the Freedom of Information and Privacy Office, Defense Threat Reduction Agency, 8725 John J. Kingman Road, Fort Belvoir, VA 22060-6201.

FOR FURTHER INFORMATION CONTACT: Ms. Brenda Carter at (703) 767-1771.

SUPPLEMENTARY INFORMATION: The Defense Threat Reduction Agency notices for systems of records subject to the Privacy Act of 1974 (5 U.S.C. 552a), as amended, have been published in the Federal Register and are available from the address above.

The proposed system report, as required by 5 U.S.C. 552a(r) of the Privacy Act of 1974, as amended, was submitted on June 29, 2007, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: July 2, 2007.
C.R. Choate,
Alternate OSD Federal Register Liaison Officer, Department of Defense.

HDTRA 025

System name:

Facility Access Control Records.

System location:

Headquarters, Defense Threat Reduction Agency, Security and Counterintelligence Directorate, ATTN: Chief, Security Services Division, 8725 John J. Kingman Road, Stop 6201, Fort Belvoir, VA 22060-6201.

Categories of individuals covered by the system:

Individuals requesting access to Defense Threat Reduction Agency controlled facilities.

Categories of records in the system:

Requests for and issuance of facility entry badges, passes, and motor vehicle registration. The records contain individual's name, Social Security Number (SSN), physical and electronic duty addresses, physical and electronic home addresses, duty and home telephone numbers, emergency-essential status, date and place of birth, citizenship, number and type of badge, issue and expiration date of badge; facility identification, user codes, dates and times of building entry, current photograph, physical descriptors such as height, hair and eye color, blood type, biometrics data, handicap data, security clearance data, personal vehicle description, operator's permit data, inspection and insurance data, vehicle decal number, parking lot assignment, parking infractions, participation in mass transit programs, and emergency contact data.

Authority for maintenance of the system:

42 U.S.C. 2165, the Atomic Energy Act of 1954; 50 U.S.C. 797, the Internal Security Act of 1950; E.O. 10450, Security Requirements for Government Employees, as amended; E.O. 12958 Classified National Security Information, as amended; and E.O. 9397 (SSN).

Purpose(s):

Information is maintained by the Security Services Division to control access into Defense Threat Reduction Agency managed facilities and spaces. The system will verify security clearance status of individuals requiring entry into restricted access areas; account for building occupants; control evacuation during simulated and actual threat conditions; relay threat situations and conditions to DoD law enforcement officials for investigative or evaluative purposes; and notify emergency contact points of situations affecting a member of the workforce.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To officials and employees of Government agencies in the performance of their official duties related to the screening and selection of individuals for security clearances and/or special authorizations, access to facilities or attendance at conferences.

The DoD ‘Blanket Routine Uses' apply to this system of records.

Policies and practices for storing, retrieving, accessing, retaining, and disposing of records:

Storage:

Paper records are in file folders and electronic storage media.

Retrievability:

Individual's name, Social Security Number (SSN), facility or user code, or vehicle decal number.

Safeguards:

Records are maintained in secure, limited access, or monitored work areas accessible only to authorized personnel. Central Processing Units are located in a physically controlled access area requiring either a badge or card swipe for entry. Workstations are password protected.

Retention and disposal:

Vehicle registration records are destroyed when superseded or upon normal expiration or 3 years after revocation. Individual's badge and vehicle pass records are destroyed 5 years after cancellation or expiration.

System manager(s) and address:

Chief, Security and Counterintelligence Directorate, Defense Threat Reduction Agency, 8725 John J. Kingman Road, Stop 6201, Fort Belvoir, VA 22060-6201.

Notification procedure:

Individuals seeking to determine whether this system of records contains information about themselves should address written inquiries to the Defense Threat Reduction Agency, Security and Counterintelligence Directorate, ATTN: Chief, Security Services Division, 8725 John J. Kingman Road, Stop 6201, Fort Belvoir, VA 22060-6201.

Individuals should furnish individual's full name, Social Security Number (SSN), current address, and telephone number.

Record access procedures:

Individuals seeking to access records about themselves contained in this system of records should address written inquiries to the Defense Threat Reduction Agency, Security and Counterintelligence Directorate, ATTN: Chief, Security Services Division, 8725 John J. Kingman Road, Stop 6201, Fort Belvoir, VA 22060-6201.

Individuals should furnish individual's full name, Social Security Number (SSN), current address, and telephone number.

Contesting record procedures:

The DTRA rules for contesting contents are published in 32 CFR part 318, or may be obtained from the System Manager.

Record source categories:

Individual, DoD Joint Personnel Adjudication System (JPAS), and Enrollment Eligibility Reporting System (DEERS).

Exemptions claimed for the system:

None.

[FR Doc. E7-13264 Filed 7-6-07; 8:45 am]

BILLING CODE 5001-06-P